DEPARTMENT OF HEALTH AND HUMAN SERVICES

Centers for Disease Control and Prevention

[30DAY-63-00]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-7090. Send written comments to CDC, Desk Officer; Human Resources and Housing Branch, New Executive Office Building, Room 10235; Washington, DC 20503. Written comments should be received within 30 days of this notice.

Proposed Project

Evaluation of Public Care Providers' Training, Screening, and Referral Practices for Pregnancy-Related Violence—New—National Center for Chronic Disease Prevention and Health Promotion (NCCDPHP). Two questionnaires have been designed to collect information for the project entitled: “Evaluation of Public Care Providers' Training, Screening, and Referral Practices for Pregnancy-Related Violence.” The purpose of the project is to develop and implement an evaluation to provide the Centers for Disease Control and Prevention (CDC) with the capacity to investigate the role of clinical guidelines in detecting and intervening in intimate violence in publicly-funded family planning settings. This evaluation will encompass: (1) The administrative level at which guidelines operate; (2) the contents of guidelines; (3) the format of guidelines; (4) the use of guidelines; and (5) barriers to the adoption of guidelines for programs that do not have any in place. The information gathered will be analyzed in conjunction with existing data from other sources. The information obtained from the evaluation will be used by CDC to develop recommendations for guidelines to address screening and referral practices and provider training. Healthy People 2000 calls for a reduction of physical, sexual and emotional abuse towards women, and for the use of protocols in emergency room settings to identify and treat victims of violence. As the nation's prevention agency, CDC has been charged with finding ways to prevent violence against women. Little is known about how widely guidelines have been instituted in publicly-funded family planning settings. This evaluation will provide the first clear understanding of the barriers to implementing and using appropriate protocols. The estimated annualized burden hours are 285.

Respondents | Number of respondents | Number of responses per respondents | Average burden per response (in hours)
Clinicians | 600 | 1 | .25
Clinic Administrators | 540 | 1 | .25

Dated: August 23, 2000.
Nancy Cheal,
Acting Associate Director for Policy, Planning and Evaluation, Centers for Disease Control and Prevention (CDC).

[FR Doc. 00-21991 Filed 8-28-00; 8:45 am]

BILLING CODE 4163-18-U